DEPARTMENT OF ENERGY

10 CFR Part 431

[Docket No. EERE-2011-BT-STD-0029]

RIN 1904-AC47

Energy Conservation Program for Certain Industrial Equipment: Energy Conservation Standards and Test Procedures for Commercial Heating, Air-Conditioning, and Water-Heating Equipment; Correction

AGENCY: Office of Energy Efficiency and Renewable Energy, Department of Energy.

ACTION: Final rule; technical correction.

SUMMARY: On May 16, 2012, the U.S. Department of Energy (DOE) published a final rule in the Federal Register that amended the energy conservation standards and test procedures for certain commercial heating, air-conditioning, and water-heating equipment. Due to a drafting error, there was a typographical error (i.e., an incorrect symbol) for one equipment class of computer room air conditioners in a table to the applicable test procedure provision. This final rule rectifies this error.

DATES: Effective: March 5, 2015. The incorporation by reference of certain publications listed in the rule was approved by the Director of the Federal Register as of July 16, 2012.

FOR FURTHER INFORMATION CONTACT: Ms. Ashley Armstrong, U.S. Department of Energy, Office of Energy Efficiency and Renewable Energy, Building Technologies Office, Mailstop EE-5B, 1000 Independence Avenue SW., Washington, DC 20585-0121. Telephone: (202) 586-6590. Email: Ashley.Armstrong@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION:

I. Background

On May 16, 2012, DOE's Office of Energy Efficiency and Renewable Energy published an energy conservation standards and test procedure final rule in the Federal Register titled, “Energy Conservation Standards and Test Procedures for Commercial Heating, Air-Conditioning, and Water-Heating Equipment” (hereafter referred to as the “May 2012 final rule”). 77 FR 28928. Since the publication of that final rule, it has come to DOE's attention that, due to a technical oversight, the May 2012 final rule incorrectly included a typographical error regarding the symbol for one equipment class of the subject computer room air conditioners, which made it appear that there was more than one entry for that equipment class in the table showing the compliance date for use of the applicable test procedure. This final rule corrects this error, thereby eliminating the duplicative listing.

II. Need for Correction

As published, the May 2012 final rule mischaracterizes one computer room air conditioner equipment class in the table showing the compliance date for use of the applicable test procedure. In the May 2012 final rule, Table 2 on page 28990 contains a typographical error in the third column (“Cooling capacity”) for the equipment type, Computer Room Air Conditioners. The entry for the second line, “<65,000 Btu/h and <760,000 Btu/h,” should be corrected to read “≥65,000 Btu/h and <760,000 Btu/h.” At no place in the May 2012 final rule did DOE discuss any intention to have two separate entries for computer room air conditioners <65,000 Btu/h in the test procedure, and DOE notes that this was a typographical error in the final rule as published in the Federal Register. Thus, the table has been corrected to eliminate this error. Accordingly, DOE finds that there is good cause under 5 U.S.C. 553(b)(B) to not issue a separate notice to solicit public comment on the changes contained in this document. Issuing a separate document to solicit public comment would be impractical, unnecessary, and contrary to the public interest.

III. Procedural Requirements

DOE has concluded that the determinations made pursuant to the various procedural requirements applicable to the May 16, 2012 energy conservation standards and test procedure final rule for certain commercial heating, air-conditioning, and water-heating equipment remain unchanged for this final rule technical correction. These determinations are set forth in the May 16, 2012 final rule. 77 FR 28928, 28983-86.

List of Subjects in 10 CFR Part 431

Administrative practice and procedure, Confidential business information, Incorporation by reference, Energy conservation, Reporting and recordkeeping requirements.

Issued in Washington, DC on February 26, 2015.
Kathleen B. Hogan,
Deputy Assistant Secretary for Energy Efficiency, Energy Efficiency and Renewable Energy.

For the reasons set forth in the preamble, DOE amends part 431 of Chapter II, Subchapter D, of Title 10 of the Code of Federal Regulations as set forth below:

PART 431—ENERGY EFFICIENCY PROGRAM FOR CERTAIN COMMERCIAL AND INDUSTRIAL EQUIPMENT

1. The authority citation for part 431 continues to read as follows:

Authority: 42 U.S.C. 6291-6317.

2. Revise Table 2 in § 431.96(b)(2) to read as follows:

§ 431.96 Uniform test method for the measurement of energy efficiency of commercial air conditioners and heat pumps.

* * * * *

(b) * * *

(2) * * *

Table 2 to § 431.96—Test Procedures for Commercial Air Conditioners and Heat Pumps
Equipment type | Category | Cooling capacity | Energy efficiency descriptor | Compliance with test procedure required on or after | Use tests, conditions, and procedures ¹ in
Small Commercial Packaged Air-Conditioning and Heating Equipment | Air-Cooled, 3-Phase, AC and HP | <65,000 Btu/h | SEER and HSPF | May 13, 2013 | AHRI 210/240-2008 (omit section 6.5).
| Air-Cooled AC and HP | ≥65,000 Btu/h and <135,000 Btu/h | EER and COP | May 13, 2013 | AHRI 340/360-2007 (omit section 6.3).
| Water-Cooled and Evaporatively-Cooled AC | <65,000 Btu/h | EER | May 13, 2013 | AHRI 210/240-2008 (omit section 6.5).
|  | ≥65,000 Btu/h and <135,000 Btu/h | EER | May 13, 2013 | AHRI 340/360-2007 (omit section 6.3).
| Water-Source HP | <135,000 Btu/h | EER and COP | May 13, 2013 | ISO Standard 13256-1 (1998).
Large Commercial Packaged Air-Conditioning and Heating Equipment | Air-Cooled AC and HP | ≥135,000 Btu/h and <240,000 Btu/h | EER and COP | May 13, 2013 | AHRI 340/360-2007 (omit section 6.3).
| Water-Cooled and Evaporatively-Cooled AC | ≥135,000 Btu/h and <240,000 Btu/h | EER | May 13, 2013 | AHRI 340/360-2007 (omit section 6.3).
Very Large Commercial Packaged Air-Conditioning and Heating Equipment | Air-Cooled AC and HP | ≥240,000 Btu/h and <760,000 Btu/h | EER and COP | May 13, 2013 | AHRI 340/360-2007 (omit section 6.3).
| Water-Cooled and Evaporatively-Cooled AC | ≥240,000 Btu/h and <760,000 Btu/h | EER | May 13, 2013 | AHRI 340/360-2007 (omit section 6.3).
Packaged Terminal Air Conditioners and Heat Pumps | AC and HP | <760,000 Btu/h | EER and COP | May 13, 2013 | AHRI 310/380-2004 (omit section 5.6).
Computer Room Air Conditioners | AC | <65,000 Btu/h | SCOP | October 29, 2012 | ASHRAE 127-2007 (omit section 5.11).
|  | ≥65,000 Btu/h and <760,000 Btu/h | SCOP | May 13, 2013 | ASHRAE 127-2007 (omit section 5.11).
Variable Refrigerant Flow Multi-split Systems | AC | <760,000 Btu/h | EER and COP | May 13, 2013 | AHRI 1230-2010 (omit sections 5.1.2 and 6.6).
Variable Refrigerant Flow Multi-split Systems, Air-cooled | HP | <760,000 Btu/h | EER and COP | May 13, 2013 | AHRI 1230-2010 (omit sections 5.1.2 and 6.6).
Variable Refrigerant Flow Multi-split Systems, Water-source | HP | <17,000 Btu/h | EER and COP | October 29, 2012 | AHRI 1230-2010 (omit sections 5.1.2 and 6.6).
Variable Refrigerant Flow Multi-split Systems, Water-source | HP | ≥17,000 Btu/h and <760,000 Btu/h | EER and COP | May 13, 2013 | AHRI 1230-2010 (omit sections 5.1.2 and 6.6).
Single Package Vertical Air Conditioners and Single Package Vertical Heat Pumps | AC and HP | <760,000 Btu/h | EER and COP | July 16, 2012 | AHRI 390-2003 (omit section 6.4).
¹ Incorporated by reference, see § 431.95.

* * * * *

[FR Doc. 2015-05061 Filed 3-4-15; 08:45 am]

BILLING CODE 6450-01-P